CORPORATION FOR NATIONAL AND COMMUNITY SERVICE

45 CFR Part 2525

RIN 3045-AA09

AmeriCorps Education Awards: Delay of Effective Date

AGENCY: Corporation for National and Community Service.

ACTION: Final rule; delay of effective date.

SUMMARY: In accordance with the memorandum of January 20, 2001, from the Assistant to the President and Chief of Staff, entitled “Regulatory Review Plan,” published in the Federal Register on January 24, 2001, this action temporarily delays for 60 days the effective date of an amendment to the rule entitled “AmeriCorps Education Awards,” published in the Federal Register on December 13, 2000, at 65 FR 77820. This rule concerns an individual who successfully completes a term of service in a national service position (referred to as an “AmeriCorps member”) is eligible for an education award. An AmeriCorps Member may use an education award to repay qualified student loans or to pay for approved educational expenses. To the extent that 5 U.S.C. section 553 applies to this action, it is exempt from notice and comment because it constitutes a rule of procedure under 5 U.S.C. section 553(b)(A). Alternatively, the Corporation's implementation of this action without opportunity for public comment, effective immediately upon publication today in the Federal Register, is based on the good cause exceptions in 5 U.S.C. section 553(b)(B) and 553(d)(3) seeking public comment is impracticable, unnecessary and contrary to the public interest. The temporary 60-day delay in effective date is necessary to allow further review and consideration of new regulations, consistent with the Assistant to the President's memorandum of January 20, 2001. Given the imminence of the effective date, seeking prior public comment on this temporary delay would have been impractical, as well as contrary to the public interest in the orderly promulgation and implementation of regulations. The imminence of the effective date is also good cause for making this rule effective immediately upon publication.

EFFECTIVE DATES: The effective date of the AmeriCorps Education Awards, published in the Federal Register on December 13, 2000, at 65 FR 77820, is delayed for 60 days, from February 12, 2001, to a new effective date of April 13, 2001.

FOR FURTHER INFORMATION CONTACT: Gary Kowalczyk, Coordination of National Service Programs, Corporation for National and Community Service, (202) 606-5000, ext. 340.

Dated: February 7, 2001.
Frank R. Trinity,
Acting General Counsel.

[FR Doc. 01-3559 Filed 2-9-01; 8:45 am]

BILLING CODE 6050-$$-U